FEDERAL COMMUNICATIONS COMMISSION

[OMB 3060-1113]

Information Collection Being Submitted for Review and Approval to the Office of Management and Budget

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The Commission may not conduct or sponsor a collection of information unless it displays a currently valid Office of Management and Budget (OMB) control number. No person shall be subject to any penalty for failing to comply with a collection of information subject to the PRA that does not display a valid OMB control number.

DATES: Written comments should be submitted on or before July 11, 2018. If you anticipate that you will be submitting comments, but find it difficult to do so within the period of time allowed by this notice, you should advise the contacts listed below as soon as possible.

ADDRESSES: Direct all PRA comments to Nicholas A. Fraser, OMB, via email Nicholas_A._Fraser@omb.eop.gov; and to Nicole Ongele, FCC, via email PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: As part of its continuing effort to reduce paperwork burdens, and as required by the Paperwork Reduction Act (PRA) of 1995 (44 U.S.C. 3501-3520), the Federal Communications Commission (FCC or the Commission) invites the general public and other Federal agencies to take this opportunity to comment on the following information collection.

Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-1113. Title: Election Whether to Participate in the Wireless Emergency Alert System.

Form No.: N/A.

Type of Review: Revision of a currently approved collection.

Respondents: Business or other for-profit.

Number of Respondents and Responses: 1,253 respondents; 5,012 responses.

Estimated Time per Response: 0.5—12 hours.

Frequency of Response: On occasion reporting requirement, recordkeeping requirement and third party disclosure requirements.

Obligation To Respond: Mandatory and Voluntary Statutory authority for this information collection is contained in 47 U.S.C. 151, 154(i), 154(j), 154(o), 218, 219, 230, 256, 302(a), 303(f), 303(g), 303(r), 403, 621(b)(3), and 621(d). Total Annual Burden: 28,820 hours. Total Annual Cost: No Cost. Privacy Act Impact Assessment: No Impact(s).

Nature and Extent of Confidentiality: There is no need for confidentiality with this information collection.

Needs and Uses: The Commission will submit this information collection as a revision to the Office of Management and Budget after this 60-day comment period in order to obtain the three year clearance from them.

The information collection requirements of this collection include the following information from Commercial Mobile Service (CMS) providers: (1) Enhanced notice to consumers at time of sale (Enhanced Notice at Time of Sale); (2) marginally different disclosure as to degree of participation in wireless alerts (“in whole” or “in part”) (Notice of Election); (3) notice to current subscribers of non-participation in WEA (Notice to Current Subscribers); and (4) a new collection to include voluntary information collection for a database that the Commission plans to create (Database Collection).

The Commission created WEA (previously known as the Commercial Mobile Service Alert System, or CMAS) as required by Congress in the Warning Alert and Response Network (WARN) Act and to satisfy the Commission's mandate to promote the safety of life and property through the use of wire and radio communication. All these information collections involve the Wireless Emergency Alert (WEA) system, a mechanism under which CMS providers may elect to transmit emergency alerts to the public.

Notice of Election

On August 7, 2008, the Commission released the Third Report and Order in PS Docket No. 07- 287 (CMS Third Report and Order), FCC 08-184. The CMS Third Report and Order implemented provisions of the WARN Act, including a requirement that within 30 days of release of the CMS Third Report and Order, each CMS provider must file an election with the Commission indicating whether or not it intends to transmit emergency alerts as part of WEA. The Commission began accepting WEA election filings on or before September 8, 2008. The Bureau has sought several extensions of this information collection. OMB granted the latest on July 14, 2017. On January 30, 2018, the Commission adopted a WEA Second Report and Order and Second Order on Reconsideration in PS Docket Nos. 15-91 and 15-94, FCC 18-4 (WEA Second R&O). In this order, the Commission defines “in whole” or “in part” WEA participation, specifies the difference between these elections, and requires CMS providers to update their election status accordingly.

Enhanced Notice at Time of Sale

Section 10.240 of the Commission's rules already requires that CMS Providers participating in WEA “in part” provide notice to consumers that WEA may not be available on all devices or within the entire service area, as well as details about the availability of WEA service. As part of the WEA Second R&O, the Commission adopted enhanced disclosure requirements, requiring CMS Providers participating in WEA “in part” to disclose the extent to which enhanced geo-targeting is available on their network and devices at the point of sale and the benefits of enhanced geo-targeting at the point of sale. We believe these disclosures will allow consumers to make more informed choices about their ability to receive WEA Alert Messages that are relevant to them.

Notice to Current Subscribers

A CMS provider that elects not to transmit WEA Alert Messages, in part or in whole, shall provide clear and conspicuous notice, which takes into account the needs of persons with disabilities, to existing subscribers of its non-election or partial election to provide Alert messages by means of an announcement amending the existing subscriber's service agreement.

A CMS provider that elects not to transmit WEA Alert Messages, in part or in whole, shall use the notification language set forth in § 10.240 (c) or (d) respectively, except that the last line of the notice shall reference FCC Rule 47 CFR 10.250, rather than FCC Rule 47 CFR 10.240.

In the case of prepaid customers, if a mailing address is available, the CMS provider shall provide the required notification via U.S. mail. If no mailing address is available, the CMS provider shall use any reasonable method at its disposal to alert the customer to a change in the terms and conditions of service and directing the subscriber to voice-based notification or to a website providing the required notification.

Database Collection

The Commission also seeks to collect new information in connection with its creation of a WEA database to improve information transparency for emergency managers and the public regarding the extent to which WEA is available in their area. The Commission will request this information from CMS providers on a voluntary basis, including geographic area served and devices that are programmed, at point of sale, to transmit WEAs. We note that many participating CMS providers already provide information of this nature in their docketed filings. As discussed below, this database will remove a major roadblock to emergency managers' ability to conduct tests of the alerting system and enable individuals and emergency managers to identify the alert coverage area.

Since ensuring consumer notice and collection information on the extent of CMS providers' participation is statutorily mandated, the Commission requests approval of this collection by OMB so that the Commission may continue to meet its statutory obligation under the WARN Act. The database information collection is voluntary, but also requires OMB approval.

Federal Communications Commission.
Marlene Dortch,
Secretary, Office of the Secretary.

[FR Doc. 2018-12489 Filed 6-8-18; 8:45 am]

BILLING CODE 6712-01-P